DEPARTMENT OF HOUSING AND URBAN DEVELOPMENT

[Docket No. FR-4650-N-47]

Notice of Submission of Proposed Information Collection to OMB Analysis of Proposed Main Construction Contract

AGENCY: Office of the Chief Information Officer, HID.

ACTION: Notice.

SUMMARY: The proposed information collection requirement described below has been submitted to the Office of Management and Budget (OMB) for review, as required by the Paperwork Reduction Act. The Department is soliciting public comments on the subject proposal.

DATES: Comments Due Date: August 13, 2001.

ADDRESSES: Interested persons are invited to submit comments regarding the proposal. Comments should refer to the proposal by name/or OMB approval number (2577-0037) and should be sent to: Joseph F. Lackey, Jr., OMB Desk Officer, Office of Management and Budget, Room 10235, New Executive Office Building, Washington, DC 20503.

FOR FURTHER INFORMATION CONTACT: Wayne Eddins, Reports Management Officer, Q, Department of Housing and Urban Development, 451 Seventh Street, Southwest, Washington, DC 20410; e-mail Wayne_Eddins@HUD.gov; telephone (202) 708-2374. This is not a toll-free number. Copies of the proposed forms and other available documents submitted to OMB may be obtained fron Mr. Eddins.

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) to OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This Notice also lists the following information:

Title of Proposal: Analysis of Proposed Main Construction Contract.

OMB Approval Number: 2577-0037.

Form Numbers: HUD-52396.

Description of the Need for the Information and Its Proposed Use: Housing Agencies must prepare and submit main construction contracts for projects proposed or being developed under the Low-income Housing Program. HUD form 52396 indicates the approved pre-bid budget amounts for various elements in a construction project, the actual bid for these same elements, any proposed changes in these amounts and the actual final adjusted for each category. It is a comparison of actual bid costs on a conventionally developed public housing project to the approved pre-bid estimate. Information is submitted to HUD to gain approval for award of a construction contract.

Respondents: State, Local or Tribal Government.

Frequency of Submission: Recordkeeping and reporting.

| Number of respondents | × | Frequency of response | × | Hours per response | = | Burden hours
Reporting burden | 96 |  | 1.14 |  | 2.25 |  | 248

Total Estimated Burden Hours: 248.

Status: Extension of currently approved collection.

Authority: Section 3507 of the Paperwork Reduction Act of 1995, 44 U.S.C. 35, as amended.

Dated: June 29, 2001
Wayne Eddins,
Departmental Reports Management Officer, Office of the Chief Information Officer.

[FR Doc. 01-17423 Filed 7-11-01; 8:45 am]

BILLING CODE 4210-72-M